DEPARTMENT OF THE INTERIOR

Bureau of Reclamation

[INT-FES 12-40]

Final Environmental Impact Statement for the Odessa Subarea Special Study—Columbia Basin Project Adams, Franklin, Grant, and Lincoln Counties, WA

AGENCY: Bureau of Reclamation, Interior.

ACTION: Notice of availability.

SUMMARY: The Bureau of Reclamation, in cooperation with the Washington State Department of Ecology (Ecology), the joint lead agency, is notifying the public that they have prepared a final environmental impact statement and has made it available to the public for review.

DATES: The Bureau of Reclamation will not make a decision on the proposed action until at least 30 days after filing of the final environment impact statement with the Environmental Protection Agency. After the 30-day waiting period, the Bureau of Reclamation may complete a Record of Decision that identifies a selected action for implementation and discusses the rationale upon which the decision was made.

ADDRESSES: Requests for copies of the final environmental impact statement and comments should be addressed to Candace McKinley, Environmental Program Manager, Bureau of Reclamation, Columbia-Cascades Area Office, 1917 Marsh Road, Yakima, Washington 98901; or by email at odessa@usbr.gov.

FOR FURTHER INFORMATION CONTACT: Contact Candace McKinley, Environmental Program Manager, Telephone (509) 575-5848 x603. Information on this project can also be found at: http://www.usbr.gov/pn/programs/ucao_misc/odessa/index.html.

SUPPLEMENTARY INFORMATION: The final environmental impact statement (FEIS) was completed pursuant to Section 102(2)(c) of the National Environmental Policy Act of 1969 (NEPA), as amended, 42 U.S.C. 4332, and also will comply with requirements of the Washington State Environmental Policy Act (SEPA), Chapter 43.21C, Revised Code of Washington (RCW). Reclamation published a Notice of Availability for the Draft EIS in the Federal Register on October 25, 2010 (75 FR 65503) with an extended public comment period ending on January 31, 2011. Reclamation and Ecology have clarified the FEIS is the initial environmental analysis within a tiered process under NEPA and SEPA. Reclamation and Ecology expect that some projects or actions advanced out of this first tier EIS may be subject to subsequent second tier, project-level, environmental analysis under NEPA and SEPA before being approved for implementation. Tiering refers to the process of addressing a broad, general program, policy or proposal in an initial analysis followed by analyses of a more precisely defined site-specific proposal related to the initial program, policy, or proposal when that proposal is ready to be carried forward. Any subsequent NEPA project-level analysis could include a combination of EIS(s), supplemental EIS(s), environmental assessments(s), and/or categorical exclusion(s) along with corresponding SEPA reviews, as appropriate, depending on the proposed action, phasing of implementation, and potential for adverse impacts. Actions described in this FEIS that are analyzed in full, such as canal expansion will not undergo a second tier NEPA/SEPA review. Decisions relative to the general scope of the action alternative which include acreage, water supply, and general site locations would also not be subject to additional review. The FEIS includes written responses to public comments received on the Draft EIS.

Background Information

The Grand Coulee Dam Project was authorized for construction by the Rivers and Harbors Act of August 30, 1935, and reauthorized and renamed in the Columbia Basin Project Act of March 10, 1943. The Columbia Basin Project (CBP) is a multipurpose water development project in the central part of the State of Washington. Congress authorized the CBP to irrigate a total of 1,029,000 acres; about 671,000 acres are currently irrigated.

Section 9(a) of the Reclamation Project Act of 1939 gave authority to the Secretary of the Interior (Secretary) to approve a finding of feasibility and thereby authorize construction of a project upon submitting a report to the President and the Congress. The Secretary approved a plan of development for the CBP, known as House Document No. 172 in 1945. House Document No. 172 anticipated that development of the CBP would occur in phases over a 70-year period. The Odessa Subarea Special Study is conducted under the authority of the CBP Act of 1943, as amended, and the Reclamation Project Act of 1939.

In response to the public's concern about declining groundwater supplies in the Odessa aquifer and associated economic and other effects, Congress has funded Reclamation to investigate this problem. Ecology has partnered with Reclamation by providing funding and collaborating on various technical studies. In February 2006, the Washington State Legislature passed the Columbia River Water Resource Management Act (Chapter 90.90 RCW) that directs Ecology to aggressively pursue development of water benefiting both instream and out-of-stream uses through storage, conservation, and voluntary regional water management agreements. The Odessa Subarea Special Study is one of several activities identified in the legislation and was initiated by Reclamation and Ecology in 2008.

Reclamation and Ecology are studying the potential to replace the current and increasingly unreliable groundwater supplies used for irrigation in the Odessa Subarea Special Study Area (Study Area) within the CBP authorized boundary with a surface water supply as part of continued phased development of the CBP.

The alternatives being considered include the No Action Alternative as required by NEPA and SEPA, and six action alternatives that address the Purpose and Need. The six action alternatives rely on several different water supply and delivery options, and fall within the following three categories:

Partial Replacement: This group of delivery alternatives focuses on enlarging the existing East Low Canal and providing CBP surface water to approximately 57,000 acres in the Study Area that currently are irrigated with groundwater. Nearly all of the acreage served would be south of Interstate 90 (I-90). A small portion of the remaining groundwater-irrigated acres in the Study Area north of I-90, nearest the East Low Canal, may also be served.

Full Replacement: This group of delivery alternatives would provide CBP surface water to most groundwater-irrigated acreage in the Study Area (approximately 102,600 acres), both north and south of I-90. Lands south of I-90 would be served by enlarging the East Low Canal. Lands north of I-90 would be served by constructing a new East High Canal system.

Modified Partial Replacement: This group of delivery alternatives would provide replacement water for approximately 70,000 acres of existing groundwater-irrigated lands both north and south of I-90. Approximately 25,000 acres of 70,000 acres would be located north of I-90, while the remaining 45,000 acres would be south of I-90.

The two modified partial replacement alternatives were developed in response to comments received on the draft EIS. These two alternatives include lands, facilities, and quantities of water that are within the range of alternatives and alternative impacts considered in the Draft EIS.

Two water supply options are being considered that would use storage from Banks Lake reservoir and Lake Roosevelt either individually or in combination, as follows: Option A—Banks Lake reservoir, would use storage through additional drawdowns from Banks Lake reservoir, exclusively; and Option B—Banks Lake and Lake Roosevelt, would use existing storage in Banks Lake and Lake Roosevelt, resulting in additional drawdowns from both reservoirs. Reclamation and Ecology have identified the Modified Partial Replacement Alternative with water supply option A (Banks Only) as their preferred alternative.

The FEIS is available for public inspection at the following locations:

• Bureau of Reclamation, Columbia-Cascades Area Office, 1917 Marsh Road, Yakima, Washington; telephone: (509) 575-5848

• Bureau of Reclamation, Pacific Northwest Regional Office, 1150 North Curtis Road, Suite 100, Boise, Idaho; telephone: (208) 378-5012

• Bureau of Reclamation, Ephrata Field Office, 32 C Street Northwest, Ephrata, Washington; telephone (509) 754-0214

• Washington State Department of Ecology, 15 W. Yakima Avenue, Suite 200, Yakima, Washington; telephone (509) 575-2490

• Washington State Department of Ecology, 4601 North Monroe, Spokane, Washington; telephone (509) 329-3400

Libraries

• Basin City Branch, Mid-Columbia Library, Basin City, Washington

• Benton-Franklin County Regional Law Library, Columbia Basin College, L Building, 2600 North 10th Avenue, Pasco, Washington

• Big Bend Community College Library, Building 1800, 7611 Bolling Street NE., Moses Lake, Washington

• Columbia Basin College Library, 2600 North 20th Avenue, Pasco, Washington

• Connell Branch, Mid-Columbia Library, 118 North Columbia Avenue, Connell, Washington

• Coulee City Public Library, 405 West Main Street, Coulee City, Washington

• Ephrata City Library, 45 Alder Street Northwest, Ephrata, Washington

• Grant County Law Library, 35 C Street NW., Ephrata, Washington

• Kahlotus Branch, Mid-Columbia Library, East 225 Weston, Kahlotus, Washington

• Moses Lake Community Library, 418 East 5th Avenue, Moses Lake, Washington

• Odessa Public Library, 21 East 1st Avenue, Odessa, Washington

• Othello Branch, Mid-Columbia Library, 101 East Main, Othello, Washington

• Pasco Branch, Mid-Colombia Library, 1320 West Hopkins, Pasco, Washington

• Quincy Public Library, 108 B Street Southwest, Quincy, Washington

• Ritzville Public Library, 302 West Main, Ritzville, Washington

• North Central Regional Library, Royal City Library, 136 Camelia Street, Royal City, Washington

• Seattle Public Library, Central Library, 1000 Fourth Avenue, Seattle, Washington

• Sprague Public Library, 119 West Second Street, Sprague, Washington

• North Central Regional Library, Warden Library, 305 South Main Street, Warden Washington

• Washington State Library, 6880 Capitol Boulevard South, Olympia, Washington

Public Disclosure Statement

Before including your address, phone number, email address, or other personal identifying information in your comment, you should be aware that your entire comment—including your personal identifying information—may be made publicly available at any time. While you can ask us in your comment to withhold your personal identifying information from public review, we cannot guarantee that we will be able to do so.

Dated: August 27, 2012.
Lorri J. Lee,
Regional Director, Pacific Northwest Region.

[FR Doc. 2012-21572 Filed 8-30-12; 8:45 am]

BILLING CODE 4310-MN-P